LEGAL SERVICES CORPORATION

Notice to LSC Grantees of Application Process for Subgranting 2021 Basic Field Funds

AGENCY: Legal Services Corporation.

ACTION: Notice of application dates and format for applications for approval to make subgrants of 2021 Basic Field Grant funds.

SUMMARY: The Legal Services Corporation (LSC) is the national organization charged with administering Federal funds provided for civil legal services to low-income people. LSC hereby announces the submission dates for applications for subgrants of 2021 Basic Field Grant funds. LSC is also providing information about where applicants may locate subgrant application questions and directions for providing the information required to apply for a subgrant.

DATES: See Supplementary Information section for application dates.

ADDRESSES: Legal Services Corporation—Office of Compliance and Enforcement, 3333 K Street NW, Third Floor, Washington, DC 20007-3522.

FOR FURTHER INFORMATION CONTACT: Megan Lacchini, Office of Compliance and Enforcement at lacchinim@lsc.gov or (202) 295-1506 or visit the LSC website at http://www.lsc.gov/grants-grantee-resources/grantee-guidance/how-apply-subgrant.

SUPPLEMENTARY INFORMATION: Under 45 CFR part 1627, LSC must publish, on an annual basis, “notice of the requirements concerning the format and contents of the application annually in the Federal Register and on LSC's website.” 45 CFR 1627.4(b). This Notice and the publication of the Subgrant Application on LSC's website satisfy § 1627.4(b)'s notice requirement for the Basic Field Grant program. Only current or prospective recipients of LSC Basic Field Grants may apply for approval to subgrant these funds.

Applications for approval to make subgrants of calendar year 2021 Basic Field Grant funds will be available the week of July 20, 2020. Applications must be submitted through GrantEase. Applicants must submit their applications by 5:00 p.m. E.D.T. on the due date identified below.

Applicants must submit applications for approval to make subgrants in conjunction with their applications for 2021 Basic Field Grant funding. 45 CFR 1627.4(b)(1). The deadlines for application submissions is August 20, 2020.

All applicants must provide answers to the application questions in GrantEase and upload the following documents:

• A draft subgrant agreement (with the required terms provided in LSC's Subgrant Agreement Template); and

• A subgrant budget (using LSC's Subgrant Budget Template).

Applicants seeking to subgrant to a new subrecipient that is not a current LSC grantee, or to renew a subgrant with an organization that is not a current LSC grantee in a year in which the applicant is required to submit a full funding application, must also upload:

• The subrecipient's accounting manual;

• The subrecipient's most recent audited financial statements;

• The subrecipient's current cost allocation policy (if not in the accounting manual);

• The subrecipient's 45 CFR 1635.3(c) recordkeeping policy (if not in the accounting manual).

A list of subgrant application questions, the Subgrant Agreement Template, and the Subgrant Budget Template are available on LSC's website at http://www.lsc.gov/grants-grantee-resources/grantee-guidance/how-apply-subgrant.

LSC encourages applicants to use LSC's Subgrant Agreement Template as a model subgrant agreement. If the applicant does not use LSC's Template, the proposed agreement must include, at a minimum, the substance of the provisions of the Template.

Once submitted, LSC will evaluate the application and provide applicants with instructions on any needed modifications to the submitted documents or Draft Agreement provided with the application. The applicant must then upload a final and signed subgrant agreement through GrantEase by the date requested.

As required by 45 CFR 1627.4(b)(1)(ii), LSC will inform applicants of its decision to disapprove or approve the subgrant no later than the date LSC informs applicants of LSC's 2021 Basic Field Grant funding decisions.

Dated: July 14, 2020.
Stefanie Davis,
Senior Assistant General Counsel.

[FR Doc. 2020-15493 Filed 7-16-20; 8:45 am]

BILLING CODE 7050-01-P